DEPARTMENT OF AGRICULTURE

Forest Service

Siuslaw Resource Advisory Committee

AGENCY: Forest Service, USDA.

ACTION: Notice of Meeting.

SUMMARY: The Siuslaw Resource Advisory Committee will meet in Corvallis, OR. The purpose of the meeting is RAC FY13 Business, Elect Chairperson, Set FY13 Overhead Rate, Information Share, Public Forum, 2013 Project Review, Project Selections.

DATES: The meeting will be held September 17, 2012 beginning at 9:00 a.m.

ADDRESSES: The meeting will be held at the Corvallis Forestry Sciences Lab and Siuslaw National Forest, 3200 SW Jefferson Way, Room 20 A, B, C, Corvallis, OR 97331.

FOR FURTHER INFORMATION CONTACT: Joni Quarnstrom, Siuslaw National Forest, 541/750-7075 or write to Forest Supervisor, Siuslaw National Forest, 3200 SW Jefferson Way, Corvallis, OR 97331.

SUPPLEMENTARY INFORMATION: A public input period will begin before 2013 project review. The meeting is expected to adjourn at 5:00 p.m.

Dated: August 23, 2012.
Jeremiah C. Ingersoll,
Forest Supervisor.

[FR Doc. 2012-21264 Filed 8-30-12; 8:45 am]

BILLING CODE 3410-11-M